FEDERAL TRADE COMMISSION

16 CFR Chapter I

Regulatory Review Schedule

AGENCY: Federal Trade Commission.

ACTION: Notification of intent to request public comments: initiation and termination of regulatory review.

SUMMARY: As part of its ongoing, systematic review of all Federal Trade Commission rules and guides, the Commission announces an updated ten-year regulatory review schedule. No Commission determination on the need for, or the substance of, the rules and guides listed below should be inferred from this notification.

DATES: The schedule set out in this document is applicable November 30, 2023.

FOR FURTHER INFORMATION CONTACT: Further details about specific rules or guides may be obtained from the contact person listed below for the rule or guide. For information about this document, please contact Jock Chung (202-326-2984), Federal Trade Commission, Bureau of Consumer Protection, Division of Enforcement, 600 Pennsylvania Ave. NW, Washington, DC 20580.

SUPPLEMENTARY INFORMATION: To ensure its rules and industry guides remain relevant and are not unduly burdensome, the Commission reviews each on a ten-year schedule. Every year the Commission publishes its review schedule, with adjustments made in response to public input, changes in the marketplace, and resource demands.

When the Commission reviews a rule or guide, it publishes a document in the Federal Register seeking public comment on the continuing need for the rule or guide, as well as the rule's or guide's costs and benefits to consumers and businesses. Based on this feedback, the Commission may modify or repeal the rule or guide to address public concerns, changed conditions, or to reduce undue regulatory burden.

The Commission posts information about its review schedule on its website ¹ to facilitate comment. This website contains an updated review schedule, a list of rules and guides previously eliminated in the regulatory review process, and the Commission's regulatory review plan.

¹ https://www.ftc.gov/enforcement/rulemaking/retrospective-review-ftc-rules-guides.

Updated Ten-Year Schedule for Review of FTC Rules and Guides

For 2023, the Commission intends to initiate a review of, and solicit public comments on, the following guide and rules:

(1) Labeling Requirements for Alternative Fuels and Alternative Fueled Vehicles, 16 CFR part 309 (https://www.ecfr.gov/current/title-16/chapter-I/subchapter-C/part-309). Agency Contact: Hampton Newsome, (202) 326-2889, Federal Trade Commission, Bureau of Consumer Protection, Division of Enforcement, 600 Pennsylvania Ave. NW, Washington, DC 20580.

(2) Rule Concerning Cooling-Off Period for Sales Made at Homes or at Certain Other Locations, 16 CFR part 429 (https://www.ecfr.gov/current/title-16/chapter-I/subchapter-D/part-429). Agency Contact: Marguerite Moeller, (404) 656-1364, Federal Trade Commission, Southeast Region, 233 Peachtree St. NE, Suite 1000, Atlanta, GA 30303.

The Commission is currently reviewing 16 of its 63 rules and guides. Since the Commission last published its schedule, it has completed or terminated reviews of one guide and two rules: 16 CFR part 255, Guides Concerning Use of Endorsements and Testimonials in Advertising; 16 CFR part 308, Trade Regulation Rule Pursuant to the Telephone Disclosure and Dispute Resolution Act of 1992 [Pay Per Call Rule]; and 16 CFR part 423, Care Labeling of Textile Wearing Apparel and Certain Piece Goods. During that period, it has started reviews of one guide and one rule: 16 CFR part 260, Guides for the Use of Environmental Marketing Claims; and 16 CFR part 437, Business Opportunity Rule.

The Commission appends a copy of its updated regulatory review schedule, indicating initiation dates for reviews through 2033. In its discretion, the Commission may modify or reorder the schedule in the future to incorporate new rules, or to respond to external factors (such as changes in the law) or other considerations.

Authority: 15 U.S.C. 41 through 58.

By direction of the Commission.
April J. Tabor,
Secretary.

Appendix

Regulatory Review—Updated Ten-Year Schedule
16 CFR part | Topic | Year to initiate review
24 | Guides for Select Leather and Imitation Leather Products | Currently Under Review.
260 | Guides for the Use of Environmental Marketing Claims | Currently Under Review.
310 | Telemarketing Sales Rule | Currently Under Review.
312 | Children's Online Privacy Protection Rule | Currently Under Review.
314 | Standards for Safeguarding Customer Information | Currently Under Review.
318 | Health Breach Notification Rule | Currently Under Review.
425 | Use of Prenotification Negative Option Plans [Negative Option Rule] | Currently Under Review.
432 | Power Output Claims for Amplifiers Utilized in Home Entertainment Products | Currently Under Review.
436 | Disclosure Requirements and Prohibitions Concerning Franchising | Currently Under Review.
437 | Business Opportunity Rule | Currently Under Review.
453 | Funeral Industry Practices | Currently Under Review.
456 | Ophthalmic Practice Rules (Eyeglass Rule) | Currently Under Review.
681 | Identity Theft [Red Flag] Rules | Currently Under Review.
801 | [Hart-Scott-Rodino Antitrust Improvements Act] Coverage Rules | Currently Under Review.
802 | [Hart-Scott-Rodino Antitrust Improvements Act] Exemption Rules | Currently Under Review.
803 | [Hart-Scott-Rodino Antitrust Improvements Act] Transmittal Rules | Currently Under Review.
309 | Labeling Requirements for Alternative Fuels and Alternative Fueled Vehicles | 2023.
429 | Rule Concerning Cooling-Off Period for Sales Made at Homes or at Certain Other Locations | 2023.
20 | Guides for the Rebuilt, Reconditioned, and Other Used Automobile Parts Industry | 2024.
240 | Guides for Advertising Allowances and Other Merchandising Payments and Services [Fred Meyer Guides] | 2024.
300 | Rules and Regulations under the Wool Products Labeling Act of 1939 | 2024.
301 | Rules and Regulations under Fur Products Labeling Act | 2024.
303 | Rules and Regulations under the Textile Fiber Products Identification Act | 2024.
424 | Retail Food Store Advertising and Marketing Practices [Unavailability Rule] | 2024.
435 | Mail, Internet, or Telephone Order Merchandise | 2024.
239 | Guides for the Advertising of Warranties and Guarantees | 2025.
254 | Guides for Private Vocational and Distance Education Schools | 2025.
305 | Energy Labeling Rule | 2025.
306 | Automotive Fuel Ratings, Certification and Posting | 2025.
444 | Credit Practices | 2025.
500 | Regulations under Section 4 of the Fair Packaging and Labeling Act | 2025.
501 | Exemptions from Requirements and Prohibitions under Part 500 | 2025.
502 | Regulations under Section 5(c) of the Fair Packaging and Labeling Act | 2025.
503 | Statements of General Policy or Interpretation [under the Fair Packaging and Labeling Act] | 2025.
700 | Interpretations of Magnuson-Moss Warranty Act | 2025.
701 | Disclosure of Written Consumer Product Warranty Terms and Conditions | 2025.
702 | Pre-Sale Availability of Written Warranty Terms | 2025.
703 | Informal Dispute Settlement Procedures | 2025.
304 | Rules and Regulations under the Hobby Protection Act | 2026.
455 | Used Motor Vehicle Trade Regulation Rule | 2026.
233 | Guides Against Deceptive Pricing | 2027.
238 | Guides Against Bait Advertising | 2027.
251 | Guide Concerning Use of the Word “Free” and Similar Representations | 2027.
259 | Guide Concerning Fuel Economy Advertising for New Automobiles | 2027.
682 | Disposal of Consumer Report Information and Records | 2027.
23 | Guides for the Jewelry, Precious Metals, and Pewter Industries | 2028.
311 | Test Procedures and Labeling Standards for Recycled Oil | 2028.
460 | Labeling and Advertising of Home Insulation | 2028.
316 | CAN-SPAM Rule | 2029.
433 | Preservation of Consumers' Claims and Defenses [Holder in Due Course Rule] | 2029.
315 | Contact Lens Rule | 2030.
313 | Privacy of Consumer Financial Information | 2031.
317 | Prohibition of Energy Market Manipulation Rule | 2031.
323 | Made in USA Labeling | 2031.
640 | Duties of Creditors Regarding Risk Based Pricing | 2031.
641 | Duties of Users of Consumer Reports Regarding Address Discrepancies | 2031.
642 | Prescreen Opt-Out Notice | 2031.
660 | Duties of Furnishers of Information to Consumer Reporting Agencies | 2031.
680 | Affiliate Marketing | 2031.
698 | Model Forms and Disclosures | 2031.
255 | Guides Concerning Use of Endorsements and Testimonials in Advertising | 2033.
308 | Trade Regulation Rule Pursuant to the Telephone Disclosure and Dispute Resolution Act of 1992 [Pay Per Call Rule] | 2033.
423 | Care Labeling of Textile Wearing Apparel and Certain Piece Goods | 2033.

[FR Doc. 2023-26064 Filed 11-29-23; 8:45 am]

BILLING CODE 6750-01-P